DEPARTMENT OF COMMERCE

48 CFR Part 1352

[Document Number: 080730954-0129-03]

RIN 0605-AA26

Commerce Acquisition Regulation (CAR); Correction

AGENCY: Department of Commerce (DOC).

ACTION: Final rule; correction.

SUMMARY: We, the Department of Commerce, issue a final rule to bring the Commerce Acquisition Regulation in alignment with the Federal Acquisition Regulation (FAR) and to streamline DOC's internal policy and guidance.

DATES: This rule is effective April 7, 2010.

ADDRESSES: The final rule is available on the DOC Web site http://www.doc.gov, or http://www.regulations.gov, or by contacting the Department of Commerce: Room 1854, 1401 Constitution Avenue, NW., Washington, DC 20230.

FOR FURTHER INFORMATION CONTACT: Virna Evans, 202-482-3483.

SUPPLEMENTARY INFORMATION: On March 8, 2010, the Department of Commerce published a final rule to amend the CAR to update the regulations since its last revision on September 12, 1995. That rule updated the CAR to bring it into alignment with the current provisions of the FAR and added numerous new clauses that correspond to the new procedural requirements added to the CAR. For a detailed description of the changes by CAR Part, see the final rule published on March 8, 2010 in the Federal Register (75 FR 10568). The document is also available at http://www.Regulations.gov under Docket Number: DOC-2009-0003-0001.

Upon publication of the regulations, the Department identified a typographical error in the clause headings that appear in subpart 1352.2. In each clause heading, the Department included a reference to “DATE” to serve as a placeholder for the month and year when the rule is published so that each clause may have a reference point. However, this placeholder was not updated before the final rule was published. This final rule corrects this typographical error by adding to each clause heading the month and year when the clause is effective, which is April 2010. This amendment is a purely technical, non-substantive change to the regulations. No aspect of this action is controversial.

Classification

Executive Order 12866: This rule has been determined to be not significant for purposes of Executive Order 12866, Regulatory Planning and Review.

Administrative Procedure Act/Regulatory Flexibility Act: Pursuant to 5 U.S.C. 553(b)(B), the Department finds good cause to waive prior notice and opportunity for public comment otherwise required by the section because it is unnecessary. The Department takes this action to correct an error in the headings that appear for each clause in subpart 1352.2. In the final rule published on March 8, 2010, the Department included a reference to “DATE” in each clause heading in subpart 1352 to serve as a placeholder for the month and year when the rule is published so that each clause may have a reference point. This placeholder was inadvertently retained rather than updated with the month and year of the final rule when the rule becomes effective. This final rule corrects this typographical error by adding the month and year when the rule is to become effective, which is April 2010. This amendment is a purely technical, non-substantive change to the regulations. No aspect of this action is controversial. This rule does not change any procurement practices or procedures made by the March 8, 2010 rule. The error should be corrected immediately to eliminate potential confusion by the regulated public.

For the reasons stated above, the Department finds good cause under 5 U.S.C. 553(d)(3) to waive the 30-day delay in effective date.

Because prior notice and opportunity for public comment are not required for this rule by 5 U.S.C. 553, or any other law, the analytical requirements of the Regulatory Flexibility Act, 5 U.S.C. 601 et seq., do not apply.

Paperwork Reduction Act: This rule does not impose any new information collections subject to review and approval by OMB under the Paperwork Reduction Act. Notwithstanding any other provision of the law, no person is required to respond to, nor shall any person be subject to a penalty for failure to comply with, a collection of information subject to the requirements of PRA, unless that collection of information displays a currently valid OMB control number.

In FR Doc. 2010-4132 appearing on page 10568 in the Federal Register of Monday, March 8, 2010, the following corrections are made:

PART 1352—[CORRECTED]

On pages 10594 through 10616, in part 1352, correct the clause heading of each section by revising each reference to “(DATE)” to read “(APR 2010)”.

Dated: March 17, 2010.
Scott Quehl,
Assistant Secretary for Administration.

[FR Doc. 2010-6730 Filed 3-25-10; 8:45 am]

BILLING CODE P